DEPARTMENT OF HOMELAND SECURITY

Coast Guard

33 CFR Part 100

[Docket No. USCG-2012-0851]

Special Local Regulations; Marine Events in the Seventh Coast Guard District

AGENCY: Coast Guard, DHS.

ACTION: Notice of enforcement of regulation.

SUMMARY: The Coast Guard will enforce the Key West World Championship Special Local Regulations in the Atlantic Ocean, off the tip of Key West, on the waters of the Key West Main Ship Channel, Key West Turning Basin, and Key West Harbor Entrance, from 9 a.m. until 5 p.m. on each of the dates of November 7, 2012; November 9, 2012; and November 11, 2012. This action is necessary to protect race participants, participant vessels, spectators, and the general public from the hazards associated with high-speed boat races. During the enforcement period, no person or vessel may enter the regulated area without permission from the Captain of the Port.

DATES: The regulations in 33 CFR 100.701 will be enforced daily from 9 a.m. until 5 p.m. on each of the dates of November 7, 2012; November 9, 2012; and November 11, 2012.

FOR FURTHER INFORMATION CONTACT: If you have questions on this notice, call or email Marine Science Technician First Class William G. Winegar, Sector Key West Prevention Department, Coast Guard; telephone 305-292-8809, email William.G.Winegar@uscg.mil.

SUPPLEMENTARY INFORMATION: The Coast Guard will enforce the Special Local Regulations for the annual Key West World Championship Super Boat Race in 33 CFR 100.701 on November 7, 2012; November 9, 2012; and November 11, 2012, from 9 a.m. until 5 p.m. These regulations can be found in the 2012 issue of the Federal Register 33 CFR 100.701

On November 7, 9, and 11, 2012, Super Boat International Productions, Inc. is hosting the Key West World Championship, a series of high-speed boat races. The event will be held on the waters of the Atlantic Ocean located southwest of Key West, Florida. Approximately 75 high-speed power boats will be participating in the races. It is anticipated that at least 100 spectator vessels will be present during the races.

The special local regulations encompass certain waters of the Atlantic Ocean located southwest of Key West, Florida. The special local regulations will be enforced daily from 9 a.m. until 5 p.m. on November 7, 2012; November 9, 2012; and November 11, 2012. The special local regulations area will consist of the following four sections located within the area as listed in the event application. (1) A race area, where all persons and vessels, except those persons and vessels participating in the high-speed boat races, are prohibited from entering, transiting, anchoring, or remaining. The race area is defined as all waters of the Atlantic Ocean located southwest of Key West encompassed within an imaginary line connecting the following points: Starting at Point 1 in position 24°32′08″ N, 81°50′19″ W; thence east to Point 2 in position 24°32′23″ N, 81°48′58″ W; thence northeast to Point 3 in position 24°33′14″ N, 81°48′47″ W; thence northeast to Point 4 in position 24°33′54″ N, 81°48′22″ W; thence west to Point 5 in position 24°33′54″ N, 81°48′25″ W; thence southwest back to origin. All persons and vessels, except those persons and vessels participating in the high-speed boat races, are prohibited from entering, transiting through, anchoring in, or remaining within the race area. (2) A buffer zone around the race area, where all persons and vessels, except those persons and vessels enforcing the buffer zone, are prohibited from entering, transiting, anchoring, or remaining. The buffer zone is defined as all waters of the Atlantic Ocean located southwest of Key West encompassed within an imaginary line connecting the following points: Starting at Point 1 in position 24°33′26″ N, 81°49′02″ W; thence southwest to Point 2 in position 24°32′22″ N, 81°50′39″ W; thence south to Point 3 in position 24°31′53″ N, 81°50′39″ W; thence northeast to Point 4 in position 24°32′06″ N, 81°48′35″ W thence northwest to back to origin. All persons and vessels except those persons and vessels enforcing the buffer zone are prohibited from entering, transiting through, anchoring in, or remaining within the buffer zone. (3) Spectator Area 1. Spectator Area 1 consists of all waters of the Atlantic Ocean located southwest of Key West encompassed within an imaginary line connecting the following points: Starting at Point 1 in position 24°33′26″ N, 81°49′02″ W; thence northeast to Point 2 in position 24°33′36″ N, 81°48′49″ W; thence northwest to Point 3 in position 24°33′39″ N, 81°49′26″ W; thence southwest to Point 4 in position 24°33′24″ N, 81°49′28″ W; thence northeast back to origin. All vessels are prohibited from anchoring in Spectator Area 1; any vessel transiting in the area shall travel at idle speed. (4) Spectator Area 2. Spectator Area 2 consists of all waters of the Atlantic Ocean located southwest of Key West encompassed within an imaginary line connecting the following points: Starting at Point 1 in position 24°33′41″ N, 81°48′44″ W; thence northeast to Point 2 in position 24°33′55″ N, 81°48′34″ W; thence southwest to Point 3 in position 24°33′52″ N, 81°48′42″ W; thence southwest back to origin. All vessels are prohibited from anchoring in Spectator Area 2; any vessel transiting in the area shall travel at idle speed. Persons and vessels may request authorization to enter, transit through, anchor in, or remain within the race area, or the buffer zone by contacting the Captain of the Port Key West by telephone at 305-292-8727, or a designated representative via VHF radio on channel 16. If authorization to enter, transit through, anchor in, remain within the race area, or the buffer zone is granted by the Captain of the Port Key West or a designated representative, all persons and vessels receiving such authorization must comply with the instructions of the Captain of the Port Key West or a designated representative. The Coast Guard will provide notice of the regulated area by Local Notice to Mariners, Broadcast Notice to Mariners, and on-scene designated representatives. The Coast Guard may be assisted by other Federal, State, or local law enforcement agencies in enforcing this regulation.

This notice is issued under authority of 33 CFR 100.701 and 5 U.S.C. 552(a). In addition to this notice in the Federal Register, the Coast Guard will provide the maritime community with extensive advance notification of this enforcement period via a Broadcast Notice to Mariners.

Dated: October 12, 2012.
A.S. Young, Sr.,
Captain, U.S. Coast Guard, Captain of the Port Key West.

[FR Doc. 2012-26807 Filed 10-30-12; 8:45 am]

BILLING CODE 9110-04-P